COMMISSION ON CIVIL RIGHTS

Notice of Public Meetings of the Texas Advisory Committee; Update

AGENCY: Commission on Civil Rights.

ACTION: Notice; update Zoom webinar registration links.

SUMMARY: The Commission on Civil Rights published a notice in the Federal Register of Wednesday, December 27, 2023, concerning various meetings of the Texas Advisory Committee. The document contained outdated registrations links. These are the updated Zoom webinar registration links as follows:

February 15: https://www.zoomgov.com/s/1612870248

March 19: https://www.zoomgov.com/s/1615522515

FOR FURTHER INFORMATION CONTACT: Brooke Peery, (202) 701-1376, bpeery@usccr.gov.

In the Federal Register of Wednesday, December 27, 2023, in FR Doc. 2023-28560, on page 89366, first and second columns, all times remain the same 12 p.m.-1 p.m. mountain time.

Dated: February 6, 2024.
David Mussatt,
Supervisory Chief, Regional Programs Unit.

[FR Doc. 2024-02686 Filed 2-8-24; 8:45 am]

BILLING CODE P